DEPARTMENT OF THE INTERIOR

Bureau of Land Management

[AZAR 04543]

Public Land Order No. 7589; Partial Revocation of Public Land Order No. 1161; Arizona

AGENCY: Bureau of Land Management, Interior.

ACTION: Public Land Order.

SUMMARY: This order partially revokes a public land order insofar as it affects approximately 495 acres of National Forest System lands withdrawn for recreational areas. This order opens the lands to such forms of disposition as may by law be made of National Forest System lands and to mining, subject to valid existing rights, the provisions of existing withdrawals, other segregations of record, and the requirements of applicable law.

EFFECTIVE DATE: December 4, 2003.

FOR FURTHER INFORMATION CONTACT: Cliff Yardley, BLM Arizona State Office, 222 North Central Avenue, Phoenix, Arizona 85004-2203, 602-417-9437.

SUPPLEMENTARY INFORMATION: The Forest Service has determined that a withdrawal is no longer needed on the lands described in Paragraph 1 and has requested the partial revocation. The Carney Springs Recreation Area is within the Superstition Wilderness Area and will not be opened.

Order

By virtue of the authority vested in the Secretary of the Interior by Section 204 of the Federal Land Policy and Management Act of 1976, 43 U.S.C. 1714 (2000), it is ordered as follows:

1. Public Land Order No. 1161, which withdrew National Forest System lands for administrative sites, recreational areas, and other public purposes, is hereby revoked insofar as it affects the following described lands:

Tonto National Forest

Gila and Salt River Meridian

(a) Bartlett Dam Recreation Area

T. 5 N., R. 7 E.,

Sec. 4, SE¼NW¼ and N½NW¼SW¼;

Sec. 5, SW¼NE¼ and N½N½SE¼.

Bartlett Lake Recreation Area

T. 6 N., R. 7 E.,

Sec. 27, W½SW¼NW¼ and W½NW¼SW¼;

Sec. 28, SE¼SE¼.

Horseshoe Dam Recreation Area—Area No. 1

T. 7 N., R. 6 E.,

Sec. 2, W½SE¼NW¼ and S½SW¼NW¼.

Horseshoe Dam Recreation Area—Area No. 2

T. 7 N., R. 6 E.,

Sec. 10, W½NE¼NE¼, E½NW¼NE¼, and E½SW¼NE¼.

Lower Camp Creek Recreation Area

T. 6 N., R. 5 E.,

Sec. 1, NW¼SW¼NW¼NW¼, S½SW¼NW¼NW¼, SW¼SE¼NW¼NW¼, NE¼NW¼SW¼NW¼, and NW¼NE¼SW¼NW¼.

Sycamore Forest Camp

T. 11 N., R. 10 E., sec 7, SE¼NW¼SE¼, S½NE¼SE¼, and E½SE¼SE¼;

Sec. 8, SW¼SW¼SW¼;

Sec. 17, NW¼NW¼.

Upper Camp Creek Recreation Area

T. 7 N., R. 5 E.,

Sec. 26, S½SW¼NE¼SW¼ and S½SE¼NW¼SW¼;

Sec. 35, E½NE¼NW¼ and NE¼SE¼NW¼.

(b) Carney Springs Recreation Area

T. 1 N., R. 10 E.,

Sec. 30, NE¼SW¼, E½NW¼SW¼, E½SW¼SW¼, and SE¼SW¼.

The areas described aggregate approximately 495 acres.

2. At 10 a.m. on December 4, 2003, the lands described in Paragraph 1(a) will be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: October 20, 2003.
Rebecca W. Watson,
Assistant Secretary—Land and Minerals Management.

[FR Doc. 03-27635 Filed 11-3-03; 8:45 am]

BILLING CODE 3410-11-P